SECURITIES AND EXCHANGE COMMISSION

[500-1]

In the Matter of: GH3 International, Inc.; Order of Suspension of Trading

December 24, 2009.

It appears to the Securities and Exchange Commission that the public interest and the protection of investors require a suspension of trading in the securities of GH3 International, Inc. Questions have arisen concerning the adequacy of publicly available information concerning the entity's corporate and operational status and its financial condition. GH3 International, Inc. is quoted on the Pink Sheets under the ticker symbol GHTI.

The Commission is of the opinion that the public interest and the protection of the investors require a suspension of trading in securities of the above-listed entity.

Therefore, it is ordered, pursuant to Section 12(k) of the Securities Exchange Act of 1934, that trading in the securities of the above-listed entity is suspended for the period from 9:30 a.m. EST, December 24, 2009, through 11:59 p.m. EST, on January 8, 2010.

By the Commission.
Elizabeth M. Murphy,
Secretary.

[FR Doc. E9-30943 Filed 12-24-09; 11:15 am]

BILLING CODE 8011-01-P